DEPARTMENT OF THE TREASURY

Office of Foreign Assets Control

Unblocking of Specially Designated Nationals and Blocked Persons Pursuant to the Cuban Assets Control Regulations

AGENCY: Office of Foreign Assets Control, Treasury.

ACTION: Notice.

SUMMARY: The Department of the Treasury's Office of Foreign Assets Control (OFAC) is publishing the name of six individuals, 28 entities, and 11 vessels whose property and interests in property have been unblocked pursuant to the Cuban Assets Control Regulations, 31 CFR part 515.

DATES: The unblocking and removal from the list of Specially Designated Nationals and Blocked Persons (SDN List) of the individuals, entities, and vessels identified in this notice is effective March 24, 2015.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

The SDN List and additional information concerning OFAC are available from OFAC's Web site (www.treas.gov/ofac). Certain general information pertaining to OFAC's sanctions programs is available via facsimile through a 24-hour fax-on-demand service, tel.: 202/622-0077.

Background

On March 24, 2015, the Associate Director of OFAC removed from the SDN List the individuals, entities, and vessels listed below, whose property and interests in property were blocked pursuant to the Cuban Assets Control Regulations:

Individuals

1. STERN, Alfred Kaufman, Prague, Czech Republic (individual) [CUBA].

2. PADRON TRUJILLO, Amado, Panama (individual) [CUBA].

3. CASTELL VALDEZ, Osvaldo Antonio, Panama (individual) [CUBA].

4. DUQUE, Carlos Jaen, Panama (individual) [CUBA].

5. ABDELNUR, Nury de Jesus, Panama (individual) [CUBA].

6. DELGADO ARSENIO, Antonio, Panama (individual) [CUBA].

Entities

7. KOL INVESTMENTS, INC., Miami, FL, United States [CUBA].

8. TRAVEL SERVICES, INC., Hialeah, FL, United States [CUBA].

9. ABASTECEDORA NAVAL Y INDUSTRIAL, S.A. (a.k.a. ANAINSA), Panama [CUBA].

10. AGENCIA DE VIAJES GUAMA (a.k.a. GUAMA TOUR; a.k.a. GUAMATUR, S.A.; a.k.a. VIAJES GUAMA TOURS), Bal Harbour Shopping Center, Via Italia, Panama City, Panama [CUBA].

11. AVALON, S.A., Colon Free Zone, Panama [CUBA].

12. BEWELL CORPORATION, INC., Panama [CUBA].

13. CARBONICA, S.A., Panama [CUBA].

14. CARIBBEAN HAPPY LINES (a.k.a. CARIBBEAN HAPPY LINES CO.), Panama [CUBA].

15. CARIBSUGAR, S.A., Panama [CUBA].

16. CARISUB, S.A., Panama [CUBA].

17. CHAMET IMPORT, S.A., Panama [CUBA].

18. COMPANIA PESQUERA INTERNACIONAL, S.A., Panama [CUBA].

19. FAMESA INTERNATIONAL, S.A., Panama [CUBA].

20. GLOBAL MARINE OVERSEAS, INC., Panama [CUBA].

21. HERMANN SHIPPING CORP., INC., Panama [CUBA].

22. HEYWOOD NAVIGATION CORPORATION, c/o MELFI MARINE CORPORATION S.A., Oficina 7, Edificio Senorial, Calle 50, Apartado 31, Panama City 5, Panama [CUBA].

23. INVERSIONES LUPAMAR, S.A. (a.k.a. LUPAMAR INVESTMENT COMPANY), Panama [CUBA]. \

24. LOUTH HOLDINGS, S.A., Panama [CUBA].

25. PESCADOS Y MARISCOS DE PANAMA, S.A. (a.k.a. PESMAR S.A.; a.k.a. PEZMAR S.A.), Panama City, Panama [CUBA].

26. PIRAMIDE INTERNATIONAL, Panama [CUBA].

27. RADIO SERVICE, S.A., Panama [CUBA].

28. RECICLAJE INDUSTRIAL, S.A., Panama [CUBA].

29. SIBONEY INTERNACIONAL, S.A., Edificio Balmoral, 82 Via Argentina, Panama City, Panama; Venezuela [CUBA].

30. TALLER DE REPARACIONES NAVALES, S.A. (a.k.a. TARENA, S.A.), Panama City, Panama [CUBA].

31. TECHNIC DIGEMEX CORP., Calle 34 No. 4-50, Office 301, Panama City, Panama [CUBA].

32. TEMIS SHIPPING CO., Panama [CUBA].

33. TREVISO TRADING CORPORATION, Edificio Banco de Boston, Panama City, Panama [CUBA].

34. POCHO NAVIGATION CO. LTD., c/o EMPRESA DE NAVEGACION MAMBISA, Apartado 543, San Ignacio 104, Havana, Cuba [CUBA].

Vessels

35. ALEGRIA DE PIO Unknown vessel type (Naviera Maritima de Arosa, Spain) (vessel) [CUBA].

36. CARIBBEAN SALVOR (9H2275) Tug 669DWT 856GRT Malta flag (Compania Navegacion Golfo S.A.) (vessel) [CUBA].

37. HARNMAN H (f.k.a. PEONY ISLANDS) (5BXH) Bulk Cargo 26,400DWT 15,864GRT Cyprus flag (PEONY SHIPPING CO. LTD. (SDN)) (vessel) [CUBA].

38. HYALITE Unknown vessel type (Whiteswan Shipping Co., Ltd., Cyprus) (vessel) [CUBA].

39. NEW GROVE (f.k.a. KASPAR) (P3QJ3) General Cargo 1,909DWT 754GRT Cyprus flag (Oakgrove Shipping Co. Ltd.) (vessel) [CUBA].

40. PINECONE (f.k.a. GRETE) (P3QH3) General Cargo 1,941DWT 753GRT Cyprus flag (Pinecone Shipping Co. Ltd.) (vessel) [CUBA].

41. RAVENS (9H2485) General Cargo 2,468DWT 1,586GRT Malta flag (ATAMALLO SHIPPING CO. LTD. (a.k.a. ANTAMALLO SHIPPING CO. LTD.) (SDN)) (vessel) [CUBA].

42. ROSE ISLANDS Unknown vessel type (Shipley Shipping Corp., Panama) (vessel) [CUBA].

43. TEPHYS (f.k.a. PAMIT C) (H2RZ) General Cargo 15,123DWT 8,935GRT Cyprus flag (Tephys Shipping Co. Ltd.) (vessel) [CUBA].

44. WEST ISLANDS (C4IB) General Cargo 15,136DWT 9,112GRT Cyprus flag (WEST ISLAND SHIPPING CO. LTD. (SDN)) (vessel) [CUBA].

45. BROTHERS (f.k.a. TULIP ISLANDS) (C4QK) Bulk Carrier 25,573DWT 16,605GRT Cyprus flag (Ciflare Shipping Co. Ltd.) (vessel) [CUBA].

Dated: March 24, 2015.
Gregory T. Gatjanis,
Associate Director, Office of Global Targeting, Office of Foreign Assets Control.

[FR Doc. 2015-07315 Filed 3-30-15; 8:45 am]

BILLING CODE 4810-AL-P